DEPARTMENT OF COMMERCE

National Oceanic and Atmospheric Administration

[RTID 0648-XA754]

South Atlantic Fishery Management Council; Public Hearings

AGENCY: National Marine Fisheries Service (NMFS), National Oceanic and Atmospheric Administration (NOAA), Commerce.

ACTION: Notice of public hearings.

SUMMARY: The South Atlantic Fishery Management Council (Council) will hold public hearings pertaining to Amendment 10 to the Dolphin Wahoo Fishery Management Plan of the Atlantic. The amendment addresses proposed management measures for the dolphin and wahoo fisheries.

DATES: The public hearings will be held via webinar on January 26, 27, and 28, 2021.

ADDRESSES:

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION:

The public hearings will be conducted via webinar and begin at 6 p.m. each day. Registration for the webinars is required. Registration information will be posted on the Council's website at https://safmc.net/safmc-meetings/public-hearings-scoping-meetings/ as it becomes available. A public hearing document will be posted two weeks prior to the hearings. An online public comment form will also be provided. Written comments may also be submitted to the Council (see ADDRESSES). Public comments are due by February 5, 2021.

Amendment 10 to the Dolphin Wahoo Fishery Management Plan

The draft amendment would revise catch levels and annual catch limits for both Dolphin and Wahoo, modify allocations between recreational and commercial sectors, and modify recreational accountability measures designed to help prevent exceeding annual catch limits. These measures are proposed in response to revised recreational data estimates from the NOAA Fisheries Marine Recreational Information Program (MRIP) and recalibration of numbers used to establish Acceptable Biological Catches for each species.

The amendment also includes management alternatives to reduce recreational retention limits for dolphin and wahoo, eliminate a requirement for Operator Cards in the for-hire and commercial fisheries, address retention of dolphin and wahoo onboard permitted commercial vessels with specified prohibited gears onboard, and allow filleting of Dolphin at sea on board charter or headboat vessels in waters north of the Virginia/North Carolina line.

During the public hearings, Council staff will present an overview of the amendment via webinar and answer clarifying questions relevant to the proposed actions. Members of the public will have an opportunity to go on record to record their comments for consideration by the Council.

Special Accommodations

These meetings are physically accessible to people with disabilities. Requests for auxiliary aids should be directed to the Council office (see ADDRESSES) 5 days prior to the public hearings.

Note: The times and sequence specified in this agenda are subject to change.

Authority: 16 U.S.C. 1801 et seq.

Dated: January 6, 2021.
Rey Israel Marquez,
Acting Deputy Director, Office of Sustainable Fisheries, National Marine Fisheries Service.

[FR Doc. 2021-00277 Filed 1-8-21; 8:45 am]

BILLING CODE 3510-22-P